DEPARTMENT OF DEFENSE

Department of the Air Force

Performance Review Boards List of 2004 Members

Below is a list of individuals who are eligible to serve on the Performance Review Boards for the Department of the Air Force in accordance with the Air Force Senior Executive Appraisal and Awards System.

Air Force Materiel Command (AFMC) PRB

Cazel, Donald L. (HQ ACC/LGD)

Eichhorn, David J., Brigadier General (ASC/AA)

Reynolds, Richard V., Lieutenant General (AFMC/CV)

Thomas, Marilyn M. (SAF/FMBM)

Williams, Charlie E. (SAF/AQC)

Secretariat (SAF) PRB

Agee, Forrest J., Dr. (AFSOR/NE)

Ferguson, Kathleen I. (AF/ILE)

Blanchard, Roger M. (AF/DP)

Disbrow, Harry C. (AF/XOR)

Power, Gregory H., Major General (AF/XII)

Zarodkiewicz, Patricia J. (HQ AFMC/FM)

Air Staff and “Others” (ASO) PRB

Engle, James B. (SAF/AQR)

Gregory, Sandra A., Brigadier General (SAF/FMBO)

Jones, Walter F. (AFOSR/NA)

Lemkin, Bruce S. (SAF/IA)

Lineberger, Joe. G. (SAF/MRB) (Alternate)

Orr, Ronald L. (SAF/IE)

DISES PRB

At Lee, W. Kipling, Jr. (SAF/GCM)

Davidson, William A. (SAF/AAA)

Ford, Terrance M. (DAMI-Z) (Army) (Alternate)

Patterson, Leonard E., Brigadier General (AFOSI/CC)

Roby, Cherlyl (DASD, Programs and Evlauation)

Wilson, Wayne (USI) (Navy)

Pamela D. Fitzgerald,
Air Force Federal Register Liaison Officer.

[FR Doc. 04-16340 Filed 7-16-04; 8:45 am]

BILLING CODE 5001-05-P